DEPARTMENT OF THE INTERIOR

Bureau of Land Management

[NM-952-05-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey in Township 25 North, Range 6 East, and subdivision of sections, accepted September 30, 2004, for Group 943 New Mexico.

The plat representing the dependent resurvey and survey of subdivision of sections for Township 1 North, Range 7 West, accepted March 7, 2005 for Group 1005 New Mexico.

The plat representing the dependent resurvey and survey of subdivision of sections for Township 1 North, Range 6 West, accepted February 7, 2005 for Group 1005 New Mexico.

The plat, in 2 sheets, representing the dependent resurvey in Township 13 North Range 14 East accepted January 27, 2005 for Group 1023 New Mexico.

Indian Meridian, Oklahoma

The plats representing the dependent resurvey and survey of Township 3 North, Range 13 West, accepted February 16, 2005 for Group 99 Oklahoma.

The plat representing the dependent resurvey and survey of Township 4 South, Range 12 West, accepted February 10, 2005, for Group 107 Oklahoma.

The plat representing the dependent resurvey of the portion of the subdivisional lines and a portion of the subdivision of section 34, of Township 29 North Range 24 East accepted March 8, 2005, for Group 98 Oklahoma.

The plats in 4 sheets, representing the dependent resurvey of subdivisional lines, and portion of the subdivisional lines of sections 4, 5, 8, 9, and 10. The meanders of the left bank and the meander of the Abandoned Channel of the Washita River and the Metes and Bounds survey in sections 4, 9, 10, and 15, for Township 7 North, Range 10 West, accepted December 16, 2004 for Group 106 Oklahoma.

If a protest against a survey, as shown on any of the above plats is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director, or the statement of reasons must be filed with the State Director within thirty (30) days after the protest is filed.

FOR FURTHER INFORMATION CONTACT: These plats will be available for inspection in the New Mexico State Office, Bureau of Land Management, P.O. Box 27115, Santa Fe, New Mexico, 87502-0115. Copies may be obtained from this office upon payment of $1.10 per sheet.

Dated: April 6, 2005.
Stephen W. Beyerlein,
Acting Chief Cadastral Surveyor for New Mexico.

[FR Doc. 05-7381 Filed 4-12-05; 8:45 am]

BILLING CODE 4310-FB-P